DEPARTMENT OF THE INTERIOR

National Park Service

Notice of Inventory Completion: Department of Anthropology Museum at the University of California, Davis, Davis, CA

AGENCY: National Park Service, Interior.

ACTION: Notice.

Notice is here given in accordance with the Native American Graves Protection and Repatriation Act (NAGPRA), 25 U.S.C. 3003, of the completion of an inventory of human remains in the possession of the Department of Anthropology Museum at the University of California, Davis, Davis, CA. The human remains were removed from Santa Barbara County, CA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Department of Anthropology Museum at the University of California, Davis professional staff in consultation with representatives of the Santa Ynez Band of Chumash Mission Indians of the Santa Ynez Reservation, California.

In 1928, human remains representing a minimum of one individual were removed from an unknown location on Santa Rosa Island, Santa Barbara County, CA, by Mrs. W. Newhall. Mrs. Newhall donated the human remains to the Department of Anthropology Museum at the University of California, Davis prior to 1965. The human remains were found during a search of museum holdings in 1992 and formally accessioned that same year. No known individual was identified. No associated funerary objects are present.

The antiquity of the remains is unknown. Archeological evidence indicates that the earliest identifiable inhabitants of Santa Rosa Island are affiliated with the Chumash. Based on geographical location the human remains are culturally affiliated with descendants of the Chumash. The present-day descendants of the Chumash are the Santa Ynez Band of Chumash Mission Indians of the Santa Ynez Reservation, California.

Officials of the Department of Anthropology Museum at the University of California, Davis have determined that, pursuant to 25 U.S.C. 3001 (9-10), the human remains described above represent the physical remains of one individual of Native American ancestry. Officials of the Department of Anthropology Museum at the University of California, Davis also have determined that, pursuant to 25 U.S.C. 3001 (2), there is a relationship of shared group identity that can be reasonably traced between the Native American human remains and the Santa Ynez Band of Chumash Mission Indians of the Santa Ynez Reservation, California.

Representatives of any other Indian tribe that believes itself to be culturally affiliated with the human remains should contact Elizabeth Guerra, Department of Anthropology Museum, 330 Young Hall, One Shields Avenue, University of California, Davis, Davis, CA 95616, telephone (530) 754-6280, before July 3, 2006. Repatriation of the human remains to the Santa Ynez Band of Chumash Mission Indians of the Santa Ynez Reservation, California may proceed after that date if no additional claimants come forward.

The Department of Anthropology Museum at the University of California, Davis is responsible for notifying the Santa Ynez Band of Chumash Mission Indians of the Santa Ynez Reservation, California that this notice has been published.

Dated: May 3, 2006.
Sherry Hutt,
Manager, National NAGPRA Program.

[FR Doc. E6-8446 Filed 5-31-06; 8:45 am]

BILLING CODE 4312-50-S